DEPARTMENT OF COMMERCE

International Trade Administration

[A-570-891]

Hand Trucks and Certain Parts Thereof From the People's Republic of China: Initiation of New Shipper Review

AGENCY: Import Administration, International Trade Administration, Department of Commerce.

DATES: Effective Date: January 29, 2009.

SUMMARY: On December 22, 2008, ABC Tools MFG. Corp. (ABC Tools) filed a request for a new shipper review of the antidumping duty order on hand trucks and certain parts thereof (hand trucks) from the People's Republic of China (PRC). The Department of Commerce (the Department) has determined that ABC Tools' request meets the statutory and regulatory requirements for initiation and we are, accordingly, initiating a new shipper review in accordance with section 751(a)(2)(B) of the Tariff Act of 1930, as amended (the Act) and 19 CFR 351.214(a). The period of review (POR) is December 1, 2007, through November 30, 2008.

FOR FURTHER INFORMATION CONTACT: David Cordell or Robert James, AD/CVD Operations, Office 7, Import Administration, International Trade Administration, U.S. Department of Commerce, 14th Street and Constitution Avenue, NW., Washington, DC 20230; telephone: (202) 482-0408 or (202) 482-0469, respectively.

SUPPLEMENTARY INFORMATION:

Background

The notice announcing the antidumping duty order on hand trucks from the PRC was published on December 2, 2004. See Antidumping Duty Order: Hand Trucks and Certain Parts Thereof From the People's Republic of China, 69 FR 70122 (December 2, 2004). On December 22, 2008, we received a timely request for a new shipper review from ABC Tools in accordance with 19 CFR 351.214(c). ABC Tools certified that it is both the producer and exporter of the subject merchandise upon which the request for a new shipper review is based.

Pursuant to section 751(a)(2)(B)(i)(I) of the Act and 19 CFR 351.214(b)(2)(i), ABC Tools certified that it did not export hand trucks to the United States during the period of investigation (POI), April 1, 2003 through September 30, 2003. In addition, pursuant to section 751(a)(2)(B)(i)(II) of the Act and 19 CFR 351.214(b)(2)(iii)(A), ABC Tools certified that since the initiation of the investigation it has never been affiliated with any exporter or producer who exported hand trucks to the United States during the POI, including those not individually examined during the investigation. As required by 19 CFR 351.214(b)(2)(iii)(B), ABC Tools also certified that its export activities were not controlled by the central government of the PRC.

In addition to the certifications described above, pursuant to 19 CFR 351.214(b)(2)(iv), ABC Tools submitted documentation establishing the following: (1) The date on which it first shipped hand trucks for export to the United States; (2) the volume of its first shipment; (3) an entry of subject merchandise for consumption in the United States; and (4) a sale of subject hand trucks by ABC Tools to an unaffiliated customer in the United States during the twelve-month period immediately preceding the annual anniversary month of the antidumping duty order on hand trucks from the PRC.

Initiation of New Shipper Review

Pursuant to section 751(a)(2)(B) of the Act and 19 CFR 351.214(d)(1), we find that the request submitted by ABC Tools meets the threshold requirements for initiation of a new shipper review of hand trucks from the PRC produced and exported by ABC Tools.

This review covers the period from December 1, 2007, through November 30, 2008. See 19 CFR 351.214(g)(1)(i)(A). We intend to issue preliminary results of this review no later than 180 days from the date of initiation, and final results no later than 90 days from the date the preliminary results are issued. See section 751(a)(2)(B)(iv) of the Act.

It is the Department's usual practice, in cases involving non-market economies, to require that a company seeking to establish eligibility for an antidumping duty rate separate from the country-wide rate provide evidence of de jure and de facto absence of government control over the company's export activities. Although ABC Tools has provided some of this information in its new shipper request, we will issue a questionnaire to ABC Tools, including a separate-rate section. The review will proceed if the response provides sufficient indication that ABC Tools is not subject to either de jure or de facto government control with respect to its exports of hand trucks. However, if ABC Tools does not demonstrate its eligibility for a separate rate, it will be deemed not separate from other companies that exported during the POI, and its new shipper review will be rescinded.

On August 17, 2006, the Pension Protection Act of 2006 (H.R. 4) was signed into law. Section 1632 of H.R. 4 temporarily suspends the authority of the Department to instruct U.S. Customs and Border Protection to collect a bond or other security in lieu of a cash deposit in a new shipper review. Therefore, the posting of a bond or other security under section 751(a)(2)(B)(iii) of the Act in lieu of a cash deposit is not available in this case. Importers of hand trucks produced and exported by ABC Tools must continue to post cash deposits of estimated antidumping duties on each entry of subject merchandise at the PRC-wide entity rate of 383.6 percent. See Antidumping Duty Order: Hand Trucks and Certain Parts Thereof From The People's Republic of China, 69 FR 70122 (December 2, 2004).

Interested parties needing access to proprietary information in this new shipper review should submit applications for disclosure under administrative protective order in accordance with 19 CFR 351.305 and 351.306.

This initiation and notice are in accordance with section 751(a)(2)(B) of the Act and 19 CFR 351.214 and 351.221(c)(1)(i).

Dated: January 22, 2009.
John M. Andersen,
Acting Deputy Assistant Secretary for Antidumping and Countervailing Duty Operations.

[FR Doc. E9-1936 Filed 1-28-09; 8:45 am]

BILLING CODE 3510-DS-P